DEPARTMENT OF ENERGY

Federal Energy Regulatory Commission

[Docket No. CP06-373-000]

El Paso Natural Gas Company; Notice of Application

June 9, 2006.

Take notice that on June 5, 2006, El Paso Natural Gas Company (EPNG), P.O. Box 1087, Colorado Springs, Colorado, 80944, filed in Docket No. CP06-373-000 an application pursuant to section 7(b) of the Commission's regulations under the Natural Gas Act (NGA) for authorization to abandon, by sale, to West Texas Gas, Inc. (WTG) its Snyder and Sonora Pipeline Systems, with appurtenances, located in Scurry, Borden, Howard, Martin, Andrews, Ector, Sutton, Schleicher, Crockett, Irion, Reagan and Upton Counties, Texas. Additionally, WTG requests that the Commission make a determination that, upon transfer of the Snyder and Sonora Pipelines, the operation and service rendered through these facilities will be exempt from the Commission's jurisdiction under section 1(b) of the Natural gas Act. This filing is available for review at the Commission in the Public Reference Room or may be viewed on the Web at http://www.ferc.gov using the “eLibrary” link. Enter the docket number excluding the last three digits in the docket number field to access the document. For assistance, contact FERC at FERCOnlineSupport@gerc.gov or call toll-free, (886) 208-3676 or TYY, (202) 502-8659.

Specifically, EPNG proposes to convey to WTG, approximately 236 miles of various-sized pipeline supply laterals and appurtenant facilities located in the Permian Basin area in various counties in West Texas. EPNG has agreed to sell the two pipeline systems for approximately $300,000 and the assumption by WTG of certain liabilities. Upon receipt of the authorizations requested herein and the transfer of the pipelines, WTG intends to operate the Snyder Pipeline as an intrastate pipeline subject to the jurisdiction of the Texas Railroad Commission, and the Sonora Pipeline as a non-jurisdictional gathering facility. Based on the future use of the pipelines, WTG requests the Commission to determine that the future operation and services rendered through these facilities will be exempt from the Commission's jurisdiction under the NGA.

Any questions concerning this application may be directed to Richard Derryberry, Director, Regulatory Affairs, El Paso Natural Gas Company, P.O. Box 1087, Colorado Springs, Colorado 80944, at (719) 520-3782 or fax (719) 667-7534.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: June 30, 2006.

Magalie R. Salas,
Secretary.

[FR Doc. E6-9388 Filed 6-15-06; 8:45 am]

BILLING CODE 6717-01-P